DEPARTMENT OF THE INTERIOR

Bureau of Land Management

[BLM_NV_FRN_MO4500173719]

Notice of Temporary Closure of Public Lands for the 2023-2027 Off-Highway Vehicle Races in the Jean/Roach Dry Lakes Special Recreation Management Area, Clark County, NV

AGENCY: Bureau of Land Management, Interior.

ACTION: Temporary closure.

SUMMARY: The Las Vegas Field Office announces the temporary closures of certain public lands under its administration in Clark County, NV. These temporary closures are being made in the interest of public safety for the SNORE 250, Mint 400, and Legacy Battleground Off-Highway Vehicle (OHV) races in the Jean/Roach Dry Lakes Special Recreation Management Area (SRMA). The events will individually take place for one-day and two-day periods between the months of December to March from 2023 through 2027. The temporary closures are needed to limit access to the race area and minimize the risk of potential collisions with spectators and racers during the events.

DATES: The temporary closures will go into effect during the official permitted running of the SNORE 250, Mint 400, and Legacy Battleground OHV races. The SNORE 250 and Legacy Battleground OHV races are one-day races, and the Mint 400 takes place over a two-day period. The races occur between the months of December to March each year from 2023-2027. The closure dates will be listed on www.blm.gov/nevada at least 30 days prior to each event.

ADDRESSES: The temporary closure order and map of the closure area will be posted at the BLM Las Vegas Field Office, 4701 North Torrey Pines Drive, Las Vegas, Nevada, 89130, and on the BLM website: www.blm.gov/nevada. These materials will also be posted at the access point of Jean Dry Lake and the surrounding areas.

FOR FURTHER INFORMATION CONTACT: Braden Yardley, Outdoor Recreation Planner, (702) 515-5089, or byardley@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Las Vegas Field Office announces the temporary closure of certain public lands under its administration. This action is being taken to help ensure public safety and prevent unnecessary environmental degradation during the official permitted running of the SNORE 250, Mint 400, and Legacy Battleground OHV races.

The public lands affected by this closure are described as follows:

Mount Diablo Meridian, Nevada

T. 25 S., R. 59 E.,

Sec. 23, those portions of the S½ lying southeasterly of the southeasterly right-of-way boundary of State Route 604, excepting CC-0360;

Sec. 24, excepting CC-0360;

Sec. 25;

Sec. 26, E½, excepting CC-0360;

Sec. 35, lots 4, 5, and 10, excepting CC-0360, and E½;

Sec. 36.

T. 26 S., R. 59 E.,

Sec. 1;

Sec. 2, lots 1 and 2, S½NE¼, E½SW¼, and SE¼;

Secs. 11 thru 14;

Sec. 22, lot 1, excepting CC-0360, NE¼NE¼, S½NE¼, excepting CC-0360, and SE¼;

Secs. 23 thru 26;

Sec. 27, lots 4, 5, and 8, excepting CC-0360, NE¼, SE¼SW¼, and SE¼;

Sec. 34, lot 1, excepting CC-0360, NE¼, NE¼NW¼, and SE¼;

Secs. 35 and 36.

T. 27 S., R. 59 E.,

Secs. 1 and 2;

Secs. 3 and 4, excepting CC-0360;

Sec. 5, those portions of the E½ lying easterly of the easterly right-of-way boundary of State Route 604;

Sec. 9, NE¼NE¼, excepting CC-0360 and W½SW¼;

Sec. 10, N½NE¼, SE¼NE¼, and N½NW¼;

Secs. 11 thru 17 and secs. 21 thru 24.

T. 24 S., R. 60 E.,

Sec. 13;

Sec. 14, NE¼, those portions of the NW¼NW¼ lying southeasterly of the southeasterly right-of-way boundary of State Route 604, S½NW¼, and S½;

Sec. 15, those portions of the SE¼NW¼ and S½ lying southeasterly of the southeasterly right-of-way boundary of State Route 604;

Sec. 16, those portions of the SE¼SE¼ lying southeasterly of the southeasterly right-of-way boundary of State Route 604;

Sec. 20, those portions of the SE¼SE¼ lying southeasterly of the southeasterly right-of-way boundary of State Route 604;

Sec. 21, those portions lying southeasterly of the southeasterly right-of-way boundary of State Route 604;

Secs. 22 thru 28;

Sec. 29, those portions of the NE¼ and S½ lying southeasterly of the southeasterly right-of-way boundary of State Route 604;

Sec. 31, those portions of the E½ lying southeasterly of the southeasterly right-of-way boundary of State Route 604, excepting CC-0360;

Sec. 32, those portions lying southeasterly of the southeasterly right-of-way boundary of State Route 604;

Secs. 33 thru 36.

T. 25 S., R. 60 E., those portions lying southeasterly of the southeasterly right-of-way boundary of State Route 604, excepting CC-0360.

T. 26 S., R. 60 E.,

Secs. 1 thru 24 and secs. 27 thru 34.

T. 27 S., R. 60 E.,

Secs. 3 thru 10 and secs. 13 thru 24.

T. 24 S., R. 61 E.,

Secs. 16 thru 21 and secs. 28 thru 33.

T. 25 S., R. 61 E.,

Secs. 4 thru 9, Secs. 16 thru 21, and secs. 28 thru 33.

T. 26 S., R. 61 E.,

Secs. 6 and 7;

Sec. 8, SW¼NW¼ and NW¼SW¼, excepting those portions affected by Public Law 107-282.

The area described contains 106,786 acres, more or less, according to the BLM National PLSS CadNSDI and the official plats of the surveys of the said land on file with the BLM.

Roads leading into the public lands under the temporary closure will be posted to notify the public of the closure. The closure area includes the Jean Dry Lake and is bordered by Hidden Valley to the north, the McCullough Mountains to the east, the California State line to the south and Nevada State Route 604 to the west. Under the authority of section 303(a) of the Federal Lands Policy and Management Act of 1976 (43 U.S.C. 1733(a)), 43 CFR 8360.0-7, and 43 CFR 8364.1, the BLM will enforce the following rules in the area described above:

The entire area as listed in the legal description above is closed for individual 1-day and 2-day periods during the official permitted running of the SNORE 250, Mint 400, and Legacy Battleground OHV races to all vehicles and personnel except law enforcement, emergency vehicles, event personnel, event participants, and ticketed spectators. Access routes leading to the closed area will be posted as “closure ahead”. No vehicle stopping or parking in the closed area except for designated areas will be permitted. Event participants and spectators are required to remain within designated pit and spectator areas only.

The following restrictions will be in effect for the duration of the closure to ensure public safety of participants and spectators. Unless otherwise authorized, the following activities within the closure area are prohibited:

• Camping.

• Possession of and/or consuming any alcoholic beverage by any person under the age of 21 years.

• Discharging or use of firearms or other weapons.

• Possession and/or discharging of fireworks.

• Allowing any pet or other animal in one's care to be unrestrained at any time. Animals must be on a leash or other restraint no longer than 3 feet.

• Operation of any vehicle that is not legally registered for street and highway operation, for example, all-terrain vehicles (ATV), motorcycles, utility terrain vehicles (UTV), golf carts, and any off-highway vehicle (OHV), including operation of such a vehicle in spectator viewing areas.

• Parking any vehicle in violation of posted restrictions, or in such a manner as to obstruct or impede normal or emergency traffic movement or the parking of other vehicles, create a safety hazard, or endanger any person, property, or feature. Vehicles so parked are subject to citation, removal, and impoundment at the owner's expense.

• Operating a vehicle through, around, or beyond a restrictive sign, barricade, fence, or traffic control barrier or device.

• Failing to maintain control of a vehicle to avoid danger to persons, property, resources, or wildlife.

• Operating a motor vehicle without due care or at a speed greater than 25 mph.

Signs and maps directing the public to designated spectator areas will be provided by the event sponsor.

Exceptions: Temporary closure restrictions do not apply to BLM employees, contractors, or agents engaged in official duties; any Federal, State, or local officer, member of an organized rescue or firefighting force engaged in fire, emergency, or law enforcement activities; public utility employees engaged in emergency repair; or vehicles owned by or contracted by the United States, the State of Nevada, or Clark County. The closure restrictions also do not apply to vehicles under permit for operation by event staff, contractors, and festival participants. Authorized users must have in their possession a written permit or contract from BLM signed by the authorized officer.

Enforcement: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

(Authority: 43 CFR 8360.0-7 and 8364.1.)

Bruce Sillitoe,
Field Manager, Las Vegas Field Office.

[FR Doc. 2023-24102 Filed 10-31-23; 8:45 am]

BILLING CODE 4331-21-P